DEPARTMENT OF AGRICULTURE

Farm Service Agency

Information Collection Request; Online Registration for FSA-Hosted Events and Conferences

AGENCY: Farm Service Agency, USDA.

ACTION: Notice; request for comment.

SUMMARY: In accordance with the Paperwork Reduction Act of 1995, the Farm Service Agency (FSA) is requesting comments from all interested individuals and organizations on an extension of the information collection associated with online registration for FSA-hosted events and conferences. The information collection is needed for FSA to obtain information from the respondents who register on the internet to make payment and reservations to attend any FSA-hosted conferences and events.

DATES: We will consider comments that we receive by September 9, 2019.

ADDRESSES: We invite you to submit comments on the notice. In your comments, include date, OMB control number, volume, and page number of this issue of the Federal Register. You may submit comments by any of the following methods:

• Federal eRulemaking Portal: Go to http://regulations.gov. Follow the online instructions for submitting comments.

• Mail: Farm Service Agency, USDA, Director of Outreach, J. Latrice Hill, 1400 Independence Avenue SW, Mail Stop 0511, Washington, DC 20250-0511.

You may also send comments to the Desk Officer for Agriculture, Office of Information and Regulatory Affairs, Office of Management and Budget, Washington, DC 20503. Copies of the information collection may be obtained from J. Latrice Hill at the above address.

FOR FURTHER INFORMATION CONTACT:

J. Latrice Hill; (202) 690-1700; email: latrice.hill@usda.gov. Persons with disabilities who require alternative means for communication should contact the USDA Target Center at (202) 720-2600 (voice).

SUPPLEMENTARY INFORMATION: Description of Information Collection

Title: Online Registration for FSA-hosted Events and Conferences.

OMB Number: 0560-0226.

Expiration Date of Approval: October 31, 2019.

Type of Request: .

Abstract: The collection of information is necessary for people to register online to make payment and reservations to attend conferences and events. They can register on FSA's Online Registration site on the internet. Respondents who do not have access to the internet can register by mail or fax. The information is collected by the FSA employees who host the conferences and events. FSA is collecting common elements from interested respondents such as name, organization, address, country, phone number, email address, State, city or town, payment options (credit card, check), special accommodations requests and how the respondent learned of the conference. The information collection element also includes race, ethnicity, gender and veteran status. The respondents are mainly individuals who will attend the FSA-hosted conferences or events. The information is used to collect payment, if applicable, from the respondents and make hotel reservations and other special arrangements as necessary.

There are no changes to the burden hours since the last OMB approval.

For the following estimated total annual burden on respondents, the formula used to calculate the total burden hour is the estimated average time per responses hours multiplied by the estimated total annual responses.

Estimate of Annual Burden: Public reporting burden for this collection of information is estimated to average 0.25 hours per response. (15 minutes)

Type of Respondents: Individuals, Business or other for-profit, non-for-profit institutions, Farms, Federal Government, State, Local, or Tribal Government.

Estimated Number of Respondents: 900.

Estimated Annual Number of Responses per Respondent: 1.

Estimated Total Annual of Responses: 900.

Estimated Average Time per Responses: 0.25 hours.

Estimated Total Annual Burden on Respondents: 225 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Richard Fordyce,
Administrator, Farm Service Agency.

[FR Doc. 2019-14513 Filed 7-8-19; 8:45 am]

BILLING CODE 3410-05-P